DEPARTMENT OF HOUSING AND URBAN DEVELOPMENT

[Docket No. FR-5962-N-02]

Fair Market Rents for the Housing Choice Voucher Program and Moderate Rehabilitation Single Room Occupancy Program Fiscal Year 2017; Revised

AGENCY: Office of the Assistant Secretary for Policy Development and Research, HUD.

ACTION: Notice of Fiscal Year (FY) 2017 Fair Market Rents (FMRs), Update.

SUMMARY: Today's notice updates the FY 2017 Small Area FMRs (SAFMRs) for Dallas, TX HUD Metro FMR Area (HMFA) based on a review of data for certain ZIP Codes as requested in the comment submitted by Inclusive Communities Project, Inc., in compliance with the Guidance For Preparing Comments on Small Area FMRs. The revised FY 2017 SAFMRs in the Dallas, TX, HMFA are available in a newly-posted Schedule B Addendum at https://www.huduser.gov/portal/datasets/fmr.html. They use the same bedroom ratios as the FY 2017 SAFMRs effective October 1, 2016, and are also trended to April 1, 2017.

DATES: Effective Date: The SAFMRs published in this notice are effective on December 7, 2016.

FOR FURTHER INFORMATION CONTACT: For technical information on the methodology used to develop SAFMRs or a listing of all hypothetical SAFMRs, please call the HUD USER information line at 800-245-2691 or access the information on the HUD USER Web site: https://www.huduser.gov/portal/datasets/fmr/smallarea/index.html. The Dallas, TX, HMFA SAFMRs are also provided in the HUD FY 2017 FMR documentation system at https://www.huduser.gov/portal/datasets/fmr/fmrs/docsys.html?data=fmr17.

Questions related to use of FMRs should be directed to the respective local HUD program staff. Questions on how to conduct FMR surveys or concerning further methodological explanations may be addressed to Marie L. Lihn or Peter B. Kahn, Economic and Market Analysis Division, Office of Economic Affairs, Office of Policy Development and Research, telephone 202-402-2409. Persons with hearing or speech impairments may access this number through TTY by calling the toll-free Federal Relay Service at 800-877-8339. (Other than the HUD USER information line and TDD numbers, telephone numbers are not toll-free.)

SUPPLEMENTARY INFORMATION: The revised SAFMRs supersede the values found in Schedule B Addendum that became effective on October 1, 2016. Revised SAFMRS in Schedule B Addendum are posted on the HUD User Web site at: https://www.huduser.gov/portal/datasets/fmr.html. The revised ZIP Codes are indicated by `(r)' after the five-digit code.

Dated: October 31, 2016.
Katherine M. O'Regan,
Assistant Secretary for Policy Development & Research.

[FR Doc. 2016-26874 Filed 11-4-16; 8:45 am]

BILLING CODE 4210-67-P